DEPARTMENT OF THE INTERIOR

Bureau of Indian Affairs

[234A2100DD/AAKC001030/A0A501010.999900]

Rate Adjustments for Indian Irrigation Projects

AGENCY: Bureau of Indian Affairs, Interior.

ACTION: Notice.

SUMMARY: The Bureau of Indian Affairs (BIA) owns or has an interest in irrigation projects located on or associated with various Indian reservations throughout the United States. We are required to establish irrigation assessment rates to recover the costs to administer, operate, maintain, and rehabilitate these projects. We are notifying you that we have adjusted the irrigation assessment rates at several of our irrigation projects and facilities to reflect current costs of administration, operation, maintenance, and rehabilitation.

DATES: The 2024 Irrigation Assessment Rates are effective on January 1, 2024.

FOR FURTHER INFORMATION CONTACT: Leslie Underwood, Program Specialist, Division of Water and Power, Office of Trust Services, (406) 657-5985. For details about a particular BIA irrigation project, please use the tables in the SUPPLEMENTARY INFORMATION section to contact the BIA regional or local office where the irrigation project is located.

SUPPLEMENTARY INFORMATION: A Notice of Proposed Rate Adjustment was published in the Federal Register on January 18, 2023 (88 FR 2965) to propose adjustments to the irrigation assessment rates at several BIA irrigation projects. The public and interested parties were provided an opportunity to submit written comments during the 60-day period that ended March 20, 2023.

Did BIA defer or change any proposed rate increases?

No. BIA did not defer or change any proposed rate increases.

Did BIA receive any comments on the proposed irrigation assessment rate adjustments?

Yes. BIA received three (3) written comments related to the proposed 2024 irrigation assessment rate adjustments for the Flathead Indian Irrigation Project (FIIP) and Wapato Irrigation Project (WIP). Comments were received by letter and email.

What issues were of concern to the commenters?

BIA's summary of the issues and responses are provided below. Commenters raised concerns on the proposed rate adjustment about the following issues:

The following comments are specific to the Flathead Indian Irrigation Project (FIIP)

Comment: Commenters state a general opposition to the FIIP 2024 rate increase, along with a specific concern that the project is understaffed and personnel costs should not increase until personnel are hired.

Response: As noted when rates were proposed in the Federal Register on January 18, 2023 (88 FR 2965), BIA is required to establish irrigation assessment rates that recover the costs to administer, operate, maintain, and rehabilitate our projects. As owner of FIIP, it is BIA's responsibility to ensure adequate resources are made available to meet the requirements noted above. BIA's authority to assess rates is codified at 25 U.S.C. 381 et seq. and is addressed in BIA's regulations at 25 CFR part 171. See also February 29, 2008 (73 FR 11028 at 11039-11041). Additionally, the repayment contracts between the respective irrigation districts and the Department of the Interior explicitly state that operation and maintenance (O&M) expenses “shall be paid . . . as provided . . . by rules made or to be made . . . by the Secretary of the Interior.” The procedures followed by BIA in adjusting its irrigation assessment rates are consistent with applicable law and past practice, and the methodology used by BIA to determine the O&M assessment rates for FIIP is reasonable.

The proposed 2024 irrigation assessment adjustments for FIIP's basic per acre rate categories are necessary and justified due to the increased costs associated with administering, operating, maintaining, and rehabilitating FIIP. In accordance with BIA financial guidelines and 25 CFR part 171, BIA developed the FIIP budget for 2024 expenditures and income approximately two years in advance. BIA relied on financial reports generated by the Financial and Business Management System and procurement files to review past expenditures and project a future budget. The FIIP Project Manager also used his discretion to assess and anticipate upcoming financial needs and priorities. The 2024 expenses were then divided by the total assessable acres within FIIP. The $3.50 per acre assessment increase for the “basic per acre—A” rate category, as well as the $1.75 per acre assessment increase for the “basic per acre—B” rate category, are necessary to ensure FIIP can pay its anticipated expenses for 2024.

Following BIA policy, the FIIP Project Manager held semiannual water user meetings on December 13, 2022 and May 15, 2023. Attendees included individual water users, Flathead Irrigation District representatives, Mission Irrigation District representatives, Jocko Irrigation District representatives, and a representative for the Confederated Salish and Kootenai Tribes. During these meetings, BIA presented details supporting the 2024 budget, upcoming expenses, and the proposed O&M assessment increase from $35.50 to $39.00 per acre.

FIIP provides irrigation service commensurate with its resources which means the $3.50 per acre assessment increase is needed to improve the project's quality of service. The quality of irrigation service will improve as funding becomes available to fill additional personnel positions, while also retaining and increasing experience levels of existing FIIP staff.

Due to a variety of reasons, recruitment for FIIP positions has proved to be challenging over the past few years. To address these challenges, BIA recently decided to hire three Human Resources (HR) personnel dedicated to providing hiring services and employee relations to FIIP and the two other BIA irrigation projects—Wapato and Fort Hall—in the BIA Northwest Region. The three irrigation projects will jointly fund these new HR personnel. Under this HR framework, BIA aims to rapidly fill FIIP's vacancies in 2024. FIIP's organizational chart contains 58 positions total, of which 37 are currently filled. The 2024 budget includes personnel salary, benefits, and overtime for FIIP's existing personnel and 11 vacant positions. The remaining 10 vacant positions in FIIP's organizational chart are not funded in the 2024 budget.

Comment: The Mission and Jacko Irrigation Districts request an audit of FIIP to determine what happened to the Cooperative Management Entity's supposed $6.5 million of financial assets.

Response: In 2014, BIA reassumed O&M of FIIP from the dissolved Cooperative Management Entity (CME). From March 2014 through June 2015, BIA acquired the CME's property and financial assets. BIA has records of all reassumption acquisitions, which clearly show CME's financial assets totaled around $2 million. Because we have records of all reassumption acquisitions and subsequent BIA expenditures on authorized purposes, an audit is not warranted.

The Following Comments Are Specific to the Wapato Irrigation Project (WIP)

Comment: The Yakama Nation objects to WIP's assessment increase because it will have negative economic consequences on farmers and associated agricultural activities.

Response: As explained above, BIA is required to establish irrigation assessment rates that recover the costs to administer, operate, maintain, and rehabilitate our projects. BIA's projects are important economic contributors to the local communities they serve, and they contribute millions of dollars in crop value annually. Unfortunately, the costs associated with operating and maintaining an irrigation project may increase independently of prices and costs that are realized by the irrigators. Historically, BIA tempered irrigation rates to demonstrate sensitivity to the economic impact on water users, but that past practice resulted in a rate deficiency at some irrigation projects. Therefore, funding to operate and maintain these projects needs to come from the water users served by those projects.

BIA's irrigation program has been the subject of serval Office of Inspector General (OIG) and U.S. Government Accountability Office (GAO) audits. In the most recent OIG audit, No. 96-I-641, March 1996, the OIG concluded:

Operation and maintenance revenues were insufficient to maintain the projects, and some projects had deteriorated to the extent that their continued capability to deliver water was in doubt. This occurred because operation and maintenance rates were not based on the full cost of delivering irrigation water, including the costs of systematically rehabilitating and replacing project facilities and equipment, and because project personnel did not seek regular rate increases to cover the full cost of project operation.

A previous OIG audit performed on WIP, No. 95-I-1402, September 1995, reached the same conclusion. To address the issues noted in these audits, BIA must systematically review and evaluate irrigation assessment rates and adjust them, when necessary, to reflect the full cost to operate and perform all appropriate maintenance on the irrigation project or facility infrastructure to ensure safe and reliable operation. If this review and adjustment is not accomplished, a rate deficiency can accumulate over time. Rate deficiencies force BIA to raise irrigation assessment rates in larger increments over shorter periods than would have been otherwise necessary.

WIP's assessment rates have remained the same from 2016 through 2023. Although assessments have not changed, all O&M expenses have increased due in part to inflation, rising construction costs, and spiking energy and fuel costs. Additionally, WIP needs to increase revenues to fill vacancies (further details below) and complete rehabilitation activities pursuant to our modernization studies. O&M revenues must supplement nonreimbursable appropriated funding for large upcoming rehabilitation expenses, including reconstruction of the Wapato Diversion and improvement of fish passage on the Yakima River, as well as repairs to the Drop 1 Pumping Plant that services the Main Canal, Main Canal Extension, and Highline Canal. After eight years of a stagnant budget, WIP must increase revenues to address its backlog of deferred maintenance. BIA has projected this rate increase for several years and anticipated increasing the assessment rate in 2024. The WIP budget was prepared in accordance with BIA financial guidelines. Based on increased costs associated with administering, operating, and maintaining, and rehabilitating WIP, the need for the proposed rate increase is clear and justified.

Comment: The Yakama Nation states WIP is chronically understaffed and requests a larger and better trained staff to improve water delivery operations.

Response: BIA is committed to filling vacancies in WIP's 87-position organizational chart. The 2024 budget includes personnel salary, benefits, and overtime for 65 employees, which is an increase of 16 WIP employees above the current 2023 staffing levels. The remaining 22 vacant positions in WIP's organizational chart are not accounted for in the 2024 O&M budget. As explained above, WIP will soon receive hiring assistance from HR staff dedicated to filling irrigation vacancies in the BIA Northwest Region. Under this new HR framework, WIP aims to aggressively fill its vacancies in 2024.

The quality of irrigation service will improve as funding becomes available to fill additional personnel positions, while also retaining and increasing experience levels of existing WIP staff. BIA provides routine training to its staff on topics including, but not limited to, financial management, safety and security, water measurement, herbicide application, defensive driving, and heavy equipment operations.

Comment: The Yakama Nation requests consultation on the justification for the 2024 proposed annual irrigation assessment rates in addition to frequent opportunities to consult and receive updates on WIP's operations and upgrades.

Response: To fulfill its consultation responsibility to Tribes and Tribal organizations, BIA communicates, coordinates, and consults on a continuing basis with these entities on issues of water delivery, water availability, and costs of administration, operation, maintenance, and rehabilitation of projects that concern them. This is accomplished at the individual irrigation project by project, agency, and regional representatives, as appropriate, and through semiannual water user meetings. This notice is one component of our overall coordination and consultation process to provide notice to, and request comments from, these entities when we adjust irrigation assessment rates.

For several years, the WIP Project Manager has advised water users that a rate increase is necessary. Most recently, WIP held its semiannual water user meetings on November 2, 2022 and March 20, 2023. Attendees included the Yakama Reservation Irrigation District board members, individual water users, Yakama Nation employees, and a member of the Yakama Nation's Tribal Council Committee on Roads, Irrigation, and Lands. Additionally, the WIP Project Administrator met with the Yakama Nation Tribal Council on March 5, 2021 and April 5, 2023. At all of these meetings, BIA explained upcoming project expenses and the basis for increasing WIP's 2024 irrigation assessment rates. Attendees' comments and questions have been taken into consideration. We appreciate the Yakama Nation's participation in our meetings and comments regarding how to improve WIP, and we have sent a follow-up letter to the Yakama Nation with additional details.

Does this notice affect me?

This notice affects you if you own or lease land within the assessable acreage of one of our irrigation projects or if you have a carriage agreement with one of our irrigation projects.

Where can I get information on the regulatory and legal citations in this notice?

You can contact the appropriate office(s) stated in the tables for the irrigation project that serves you, or you can use the internet site for the Government Publishing Office at www.gpo.gov.

What authorizes you to issue this notice?

Our authority to issue this notice is vested in the Secretary of the Interior (Secretary) by 5 U.S.C. 301 and the Act of August 14, 1914 (38 Stat. 583; 25 U.S.C. 385). The Secretary has in turn delegated this authority to the Assistant Secretary—Indian Affairs under Part 209, Chapter 8.1A, of the Department of the Interior's Departmental Manual.

Whom can I contact for further information?

The following tables are the regional and project/agency contacts for our irrigation facilities.

Project name | Project/agency
Northwest Region Contacts
Bryan Mercier, Regional Director, Bureau of Indian Affairs, Northwest Regional Office, 911 NE 11th Avenue, Portland, OR 97232-4169. Telephone: (503) 231-6702.
Flathead Indian Irrigation Project | Larry Nelson, Acting Irrigation Project Manager, 220 Project Drive, St. Ignatius, MT 59865. Telephone: (406) 745-2661
Fort Hall Irrigation Project | David Bollinger, Irrigation Project Manager, 36 Bannock Avenue, Fort Hall, ID 83203-0220. Telephone: (208) 238-1992.
Wapato Irrigation Project | Pete Plant, Project Administrator, 413 South Camas Avenue, Wapato, WA 98951-0220. Telephone: (509) 877-3155.
Rocky Mountain Region Contacts
Susan Messerly, Regional Director, Bureau of Indian Affairs, Rocky Mountain Regional Office, 2021 4th Avenue North, Billings, MT 59101. Telephone: (406) 247-7943.
Blackfeet Irrigation Project | Kenneth Bird, Superintendent, Greg Tatsey, Irrigation Project Manager, P.O. Box 880, Browning, MT 59417. Telephones: Superintendent (406) 338-7544; Irrigation Project Manager (406) 338-7519.
Crow Irrigation Project | Clifford Serawop, Superintendent, Jim Gappa, Acting Irrigation Project Manager (BIA), (Project O&M performed by Water Users Association), P.O. Box 69, Crow Agency, MT 59022. Telephones: Superintendent (406) 638-2672; Acting Irrigation Project Manager (406) 247-7998.
Fort Belknap Irrigation Project | Mark Azure, Superintendent, Jim Gappa, Acting Irrigation Project Manager (BIA), (Project O&M contracted to Tribes under Pub. L. 93-638), 158 Tribal Way, Suite B, Harlem, MT 59526. Telephones: Superintendent (406) 353-2901; Irrigation Project Manager, Tribal Office (406) 353-8454.
Fort Peck Irrigation Project | Anna Eder, Superintendent, Jim Gappa, Acting Irrigation Project Manager (BIA), (Project O&M performed by Fort Peck Water Users Association), P.O. Box 637, Poplar, MT 59255. Telephones: Superintendent (406) 768-5312; Acting Irrigation Project Manager (406) 247-7998.
Wind River Irrigation Project | Leslie Shakespeare, Superintendent, Jim Gappa, Acting Irrigation Project Manager (BIA), (Project O&M for Little Wind, Johnstown, and Lefthand Units contracted to Tribes under Pub. L. 93-638; Little Wind-Ray and Upper Wind Units O&M performed by Ray Canal, A Canal, and Crowheart Water Users Associations), P.O. Box 158, Fort Washakie, WY 82514. Telephones: Superintendent (307) 332-7810; Acting Irrigation Project Manager (406) 247-7998.
Southwest Region Contacts
Patricia L. Mattingly, Regional Director, Bureau of Indian Affairs, Southwest Regional Office, 1001 Indian School Road NW, Albuquerque, NM 87104. Telephone: (505) 563-3100.
Pine River Irrigation Project | Priscilla Bancroft, Superintendent, Vickie Begay, Irrigation Project Manager, P.O. Box 315, Ignacio, CO 81137-0315. Telephones: Superintendent (970) 563-4511; Irrigation Project Manager (970) 563-9484.
Western Region Contacts
Jessie Durham, Regional Director, Bureau of Indian Affairs, Western Regional Office, 2600 North Central Avenue, 4th Floor Mailroom, Phoenix, AZ 85004. Telephone: (602) 379-6600.
Colorado River Irrigation Project | Davetta Ameelyenah, Superintendent, Gary Colvin, Irrigation Project Manager, 12124 1st Avenue, Parker, AZ 85344. Telephones: Superintendent (928) 669-7111; (928) 662-4392 Irrigation Project Manager.
Duck Valley Irrigation Project | Micah Runels, Acting Superintendent, (Project O&M compacted to Shoshone-Paiute Tribes under Pub. L. 93-638), 2719 Argent Avenue, Suite 4, Gateway Plaza, Elko, NV 89801. Telephones: Superintendent (775) 738-5165; Tribal Office (208) 759-3100.
Yuma Project, Indian Unit | Denni Shields, Superintendent, (Bureau of Reclamation (BOR) owns the Project and is responsible for O&M), 256 South Second Avenue, Suite D, Yuma, AZ 85364. Telephones: Superintendent (928) 782-1202; BOR Area Office Manager (928) 343-8100.
San Carlos Irrigation Project (Indian Works and Joint Works) | Ferris Begay, Project Manager (BIA), Clarence Begay, Supervisory Civil Engineer (BIA), (Portions of Indian Works O&M compacted to Gila River Indian Community under Pub. L. 93-638), 13805 North Arizona Boulevard, Coolidge, AZ 85128. Telephones: Project Manager (520) 723-6225; Supervisory Civil Engineer (520) 723-6203; Gila River Indian Irrigation & Drainage District (520) 562-6720.
Uintah Irrigation Project | Antonio Pingree, Superintendent, Ken Asay, Irrigation System Manager (BIA), (Project O&M performed by Uintah Indian Irrigation Project Operation and Maintenance Company), P.O. Box 130, Fort Duchesne, UT 84026. Telephones: Superintendent (435) 722-4300; Irrigation System Manager (435) 722-4344; Uintah Indian Irrigation Operation and Maintenance Company (435) 724-5200.
Walker River Irrigation Project | Colleen Labelle, Superintendent, 311 East Washington Street, Carson City, NV 89701. Telephone: (775) 887-3500.

What irrigation assessments or charges are adjusted by this notice?

The rate table below contains final rates for the 2023 and 2024 calendar years for all irrigation projects where we recover costs of administering, operating, maintaining, and rehabilitating them. An asterisk immediately following the rate category notes irrigation projects where 2023 rates are different from the 2024 rates.

Project name | Rate category | Final 2023 rate | Final 2024 rate
Northwest Region Rate Table
Flathead Irrigation Project | Basic per acre—A * | $35.50 | $39.00
| Basic per acre—B * | 17.75 | 19.50
| Minimum Charge per tract | 75.00 | 75.00
Fort Hall Irrigation Project | Basic per acre * | 64.50 | 65.50
| Minimum Charge per tract | 41.00 | 41.00
Fort Hall Irrigation Project—Minor Units | Basic per acre | 45.00 | 45.00
| Minimum Charge per tract | 41.00 | 41.00
Fort Hall Irrigation Project—Michaud Unit | Basic per acre * | 73.50 | 75.00
| Pressure per acre * | 114.00 | 116.50
| Minimum Charge per tract | 41.00 | 41.00
Wapato Irrigation Project—Toppenish/Simcoe Units | Minimum Charge per bill * | 25.00 | 28.00
| Basic per acre * | 25.00 | 28.00
Wapato Irrigation Project—Ahtanum Units | Minimum Charge per bill * | 30.00 | 35.00
| Basic per acre * | 30.00 | 35.00
Wapato Irrigation Project—Satus Unit | Minimum Charge per bill * | 79.00 | 100.00
| “A” Basic per acre * | 79.00 | 86.00
| “B” Basic per acre * | 85.00 | 92.00
Wapato Irrigation Project—Additional Works | Minimum Charge per bill * | 80.00 | 100.00
| Basic per acre * | 80.00 | 87.00
Wapato Irrigation Project—Water Rental | Minimum Charge per bill * | 90.00 | 100.00
| Basic per acre * | 90.00 | 100.00
Rocky Mountain Region Rate Table
Blackfeet Irrigation Project | Basic-per acre * | 20.50 | 21.50
Crow Irrigation Project—Willow Creek O&M (includes Agency, Lodge Grass #1, Lodge Grass #2, Reno, Upper Little Horn, and Forty Mile Units) | Basic-per acre * | 29.00 | 30.00
Crow Irrigation Project—All Others (includes Bighorn, Soap Creek, and Pryor Units) | Basic-per acre * | 29.00 | 30.00
Crow Irrigation Project—Two Leggins Unit | Basic-per acre * | 14.00 | 15.00
Crow Irrigation Two Leggins Drainage District | Basic-per acre * | 2.00 | 3.00
Fort Belknap Irrigation Project | Basic-per acre * | 19.00 | 20.00
Fort Peck Irrigation Project | Basic-per acre * | 28.00 | 29.00
Wind River Irrigation Project—Units 2, 3 and 4 | Basic-per acre * | 25.00 | 26.00
Wind River Irrigation Project—Unit 6 | Basic-per acre * | 22.00 | 23.00
Wind River Irrigation Project—LeClair District (See Note #1) | Basic-per acre | 47.00 | 47.00
Wind River Irrigation Project—Crow Heart Unit | Basic-per acre | 16.50 | 16.50
Wind River Irrigation Project—A Canal Unit | Basic-per acre | 16.50 | 16.50
Wind River Irrigation Project—Riverton Valley Irrigation District (See Note #1) | Basic-per acre | 30.65 | 30.65
Southwest Region Rate Table
Pine River Irrigation Project | Minimum Charge per tract | 75.00 | 75.00
| Basic-per acre * | 23.00 | 23.50
Western Region Rate Table
Colorado River Irrigation Project | Basic per acre up to 5.75 acre-feet | 64.00 | 64.00
| Excess Water per acre-foot over 5.75 acre-feet | 18.00 | 18.00
Duck Valley Irrigation Project | Basic per acre | 5.30 | 5.30
Yuma Project, Indian Unit (See Note #2) | Basic per acre up to 5.0 acre-feet | 161.00 | ( + )
| Excess Water per acre-foot over 5.0 acre-feet | 30.00 | ( + )
| Basic per acre up to 5.0 acre-feet (Ranch 5) | 161.00 | ( + )

San Carlos Irrigation Project (Joint Works) (See Note #3) | Basic per acre |  | $26.00 | $26.00
| Final 2024 Construction Water Rate Schedule:
|  | Off project construction | On project construction— gravity water | On project construction— pump water
| Administrative Fee | $300.00 | $300.00 | $300.00.
| Usage Fee | $250.00 per month | No Fee | $100.00 per acre foot.
| Excess Water Rate † | $5.00 per 1,000 gal | No Charge | No Charge.

Project name | Rate category | Final 2023 rate | Final 2024 rate
San Carlos Irrigation Project (Indian Works) (See Note #4) | Basic per acre * | $90.50 | $99.62
Uintah Irrigation Project | Basic per acre Minimum Bill | 23.00 25.00 | 23.00 25.00
Walker River Irrigation Project | Basic per acre | 31.00 | 31.00
* Notes irrigation projects where rates are adjusted.
+ These rates have not yet been determined.
† The excess water rate applies to all water used in excess of 50,000 gallons in any one month.
Note #1: O&M rates for LeClair and Riverton Valley Irrigation Districts apply to Trust lands that are serviced by each irrigation district. The annual O&M rates are based on budgets submitted by LeClair and Riverton Valley Irrigation Districts, respectively.
Note #2: The O&M rate for the Yuma Project, Indian Unit has two components. The first component of the O&M rate is established by the Bureau of Reclamation (BOR), the owner and operator of the Project. BOR's rate, which is based upon the annual budget submitted by BOR is $157.00 for 2023 but has not been established for 2024. The second component of the O&M rate is established by BIA to cover administrative costs, which includes billing and collections for the Project. The final 2023 and 2024 BIA rate component is $4.00 per acre.
Note #3: The Construction Water Rate Schedule identifies fees assessed for use of irrigation water for non-irrigation purposes.
Note #4: The O&M rate for the San Carlos Irrigation Project—Indian Works has three components. The first component is established by BIA San Carlos Irrigation Project—Indian Works, the owner and operator of the Project; the 2023 rate is $56.50 per acre, and final 2024 rate is $55.85 per acre. The second component is established by BIA San Carlos Irrigation Project—Joint Works; the 2023 rate is $26.00 per acre, and final 2024 rate is $26.00 per acre. The third component is established by the San Carlos Irrigation Project Joint Control Board (comprised of representatives from the Gila River Indian Community and the San Carlos Irrigation and Drainage District); the 2023 rate is $8.00 per acre (revised from $16.94 per acre), and 2024 rate is $17.77 per acre.

Consultation and Coordination With Tribal Governments (Executive Order 13175)

The Department of the Interior strives to strengthen its government-to-government relationship with Indian Tribes through a commitment to consultation with Indian Tribes and recognition of their right to self-governance and Tribal sovereignty. We have evaluated this notice under the Department's consultation policy and under the criteria of Executive Order 13175 and have determined there to be substantial direct effects on federally recognized Tribes because the irrigation projects are located on or associated with Indian reservations. To fulfill its consultation responsibility to Tribes and Tribal organizations, BIA communicates, coordinates, and consults on a continuing basis with these entities on issues of water delivery, water availability, and costs of administration, operation, maintenance, and rehabilitation of projects that concern them. This is accomplished at the individual irrigation project by project, agency, and regional representatives, as appropriate, in accordance with local protocol and procedures. This notice is one component of our overall coordination and consultation process to provide notice to, and request comments from, these entities when we adjust irrigation assessment rates.

Actions Concerning Regulations That Significantly Affect Energy Supply, Distribution, or Use (Executive Order 13211)

These rate adjustments are not a significant energy action under the definition in Executive Order 13211. A Statement of Energy Effects is not required.

Regulatory Planning and Review (Executive Order 12866, as Amended by E.O. 14094)

These rate adjustments are not a significant regulatory action and do not need to be reviewed by the Office of Management and Budget under Executive Order 12866, as amended by E.O. 14094.

Regulatory Flexibility Act

These rate adjustments are not a rule for the purposes of the Regulatory Flexibility Act because they establish “a rule of particular applicability relating to rates.” 5 U.S.C. 601(2).

Unfunded Mandates Reform Act of 1995

These rate adjustments do not impose an unfunded mandate on state, local, or Tribal governments in the aggregate, or on the private sector, of more than $130 million per year. They do not have a significant or unique effect on State, local, or Tribal governments or the private sector. Therefore, the Department is not required to prepare a statement containing the information required by the Unfunded Mandates Reform Act (2 U.S.C. 1531 et seq.).

Takings (Executive Order 12630)

These rate adjustments do not effect a taking of private property or otherwise have “takings” implications under Executive Order 12630. The rate adjustments do not deprive the public, State, or local governments of rights or property.

Federalism (Executive Order 13132)

Under the criteria in section 1 of Executive Order 13132, these rate adjustments do not have sufficient federalism implications to warrant the preparation of a federalism summary impact statement because they will not affect the States, the relationship between the national government and the States, or the distribution of power and responsibilities among the various levels of government. A federalism summary impact statement is not required.

Civil Justice Reform (Executive Order 12988)

This notice complies with the requirements of Executive Order 12988. Specifically, in issuing this notice, the Department has taken the necessary steps to eliminate drafting errors and ambiguity, minimize potential litigation, and provide a clear legal standard for affected conduct as required by section 3 of Executive Order 12988.

Paperwork Reduction Act of 1995

These rate adjustments do not affect the collections of information which have been approved by the Office of Information and Regulatory Affairs, Office of Management and Budget (OMB) under the Paperwork Reduction Act of 1995. The OMB Control Number is 1076-0141 and expires March 31, 2026.

National Environmental Policy Act

The Department has determined that these rate adjustments do not constitute a major Federal action significantly affecting the quality of the human environment and that no detailed statement is required under the National Environmental Policy Act of 1969, 42 U.S.C. 4321-4370(d)), pursuant to 43 CFR 46.210(i). In addition, the rate adjustments do not present any of the 12 extraordinary circumstances listed at 43 CFR 46.215.

Bryan Newland,
Assistant Secretary—Indian Affairs.

[FR Doc. 2023-16399 Filed 8-1-23; 8:45 am]

BILLING CODE 4337-15-P